DEPARTMENT OF ENERGY

Federal Energy Regulatory Commission

[Docket No. CP02-45-000]

Notice of Availability of the Environmental Assessment for the Proposed Hanging Rock Lateral Project; Texas Eastern Transmission, L.P.

April 15, 2002.

The staff of the Federal Energy Regulatory Commission (FERC or Commission) has prepared an environmental assessment (EA) on the natural gas pipeline facilities proposed by Texas Eastern Transmission, L.P. (Texas Eastern) in the above-referenced docket.

The EA was prepared to satisfy the requirements of the National Environmental Policy Act. The staff concludes that approval of the proposed project, with appropriate mitigating measures, would not constitute a major Federal action significantly affecting the quality of the human environment.

The EA assesses the potential environmental effects of the construction and operation of the proposed pipeline facilities including:

• 9.6 miles of 24-inch-diameter pipeline extending from milepost (MP) 562.18 on Texas Eastern's 30-inch-diameter Line Nos. 10 and 15 (the Texas Eastern Interconnect) in Scioto County, Ohio, to the Hanging Rock Plant in Lawrence County, Ohio;

• 150 feet of 20-inch-diameter pipeline at the Texas Eastern Interconnect;

• 150 feet of 12-inch-diameter pipeline at MP 2.1 on the Hanging Rock Lateral to interconnect with the existing Tennessee Gas Pipeline Company (Tennessee) pipeline Scioto County, Ohio (the Tennessee Interconnect);

• 2 new metering and regulating (M&R) stations at the Tennessee Interconnect;

• The Hanging Rock Plant M&R station on the Hanging Rock Plant property at MP 9.6 in Lawrence County, Ohio; and

• Appurtenant facilities.

The purpose of the proposed facilities would be to provide service to the Hanging Rock Power Plant, a 1,240 megawatt gas-fired electric power plant (Hanging Rock Plant) which would be constructed in Lawrence County, Ohio, by Duke Energy Hanging Rock, L.P. (Duke-Hanging Rock). The pipeline facilities would allow Texas Eastern to provide a total of 250,000 dekatherms per day of transportation service to the Hanging Rock Plant. These facilities have a proposed in-service date of November 1, 2002.

The EA has been placed in the public files of the FERC. A limited number of copies of the EA are available for distribution and public inspection at: Federal Energy Regulatory Commission, Public Reference and Files Maintenance Branch, 888 First Street, NE., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426;

• Label one copy of the comments for the attention of the Gas Branch 2, PJ11.2.

• Reference Docket No. CP02-45-000; and

• Mail your comments so that they will be received in Washington, DC on or before May 15, 2002.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's web site at http://www.ferc.gov under the “e-Filing” link and the link to the User's Guide. Before you can file comments you will need to create a free account which can be created by clicking on “Login to File” and then “New User Account.”

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the proposed project is available from the Commission's Office of External Affairs, at (202) 208-1088 or on the FERC Internet website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2222.

Magalie R. Salas,
Secretary.

[FR Doc. 02-9703 Filed 4-19-02; 8:45 am]

BILLING CODE 6717-01-P